DEPARTMENT OF ENERGY

Federal Energy Regulatory Commission

[Docket No. EC03-58-000, et al.]

AEP Texas Central Company and AEP Texas North Company, et al.; Electric Rate and Corporate Regulation Filings

February 26, 2003.

The following filings have been made with the Commission. The filings are listed in ascending order within each docket classification:

1. AEP Texas Central Company and AEP Texas North Company

[Docket No. EC03-58-000]

Take notice that on February 21, 2003, American Electric Power Company, Inc. filed with the Federal Energy Regulatory Commission (Commission) on behalf of AEP Texas Central Company and AEP Texas North Company (AEP Companies), an application pursuant to section 203 of the Federal Power Act for authorization of a disposition of jurisdictional facilities to Pedernales Electric Cooperative, Inc. (PEC).

American Electric Power Company, Inc. States that SEP Companies' filing was served on PEC and the Public Service Commission of Texas.

Comment date: March 14, 2003.

2. CMS Marketing, Services & Trading Company

[Docket No. EC03-59-000]

Take notice that on February 24, 2003, CMS Marketing, Services & Trading Company (CMST) filed with the Federal Energy Regulatory Commission (Commission) an application pursuant to section 203 of the Federal Power Act seeking authorization to dispose of jurisdictional and power sales contracts to Constellation Power Source, Inc. (CPSI). CMST and CPSI are Commission-authorized power marketers.

Comment date: March 17, 2003.

3. Wisvest Connecticut, LLC and ISO New England Inc.

[Docket No. EL03-11-001]

Take notice that on February 24, 2003, the New England Power Pool (NEPOOL) Participants Committee and ISO New England Inc., (ISO-NE) filed with the Federal Energy Regulatory Commission (Commission) their Report of Compliance in response to the requirements of the Commission's December 26, 2002 order in Wisvest-Connecticut, LLC, 101 FERC • 61,372 (2002).

The Participants Committee states that copies of these materials were sent to the New England state governors and regulatory commissions and the Participants in NEPOOL.

Comment date: March 26, 2003.

4. Cabazon Power Partners, LLC

[Docket No. ER03-521-000]

Enron Wind Systems, LLC

[Docket No. ER03-522-000]

Zond Windsystems Partners Ltd., Series 85-A

[Docket No. ER03-523-000]

Zond Windsystems Partners Ltd., Series 85B

[Docket No. ER03-524-000]

Sky River Partnership

[Docket No. ER03-525-000]

Victory Garden Phase IV Partnership

[Docket No. ER03-526-000]

ZWHC, LLC

[Docket No. ER03-527-000]

Painted Hills Wind Developers

[Docket No. ER03-528-000]

Take notice that on January 31, 2003, Cabazon Power Partners, LLC, Enron Wind Systems, LLC, Zond Windsystems Partners Ltd., Series 85-A; Zond Windsystems partners Ltd., Series 85B; Sky River Partnership, Victory Garden Phase IV Partnership, ZWHC LLC and Painted Hill Wind Developers filed amended Power Purchase Agreements under section 205 of the Federal Power Act.

Comment Date: March 19, 2003.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list.

This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5093 Filed 3-3-03; 8:45 am]

BILLING CODE 6717-01-P